SUSQUEHANNA RIVER BASIN COMMISSION

Projects Approved for Minor Modifications

AGENCY: Susquehanna River Basin Commission.

ACTION: Notice.

SUMMARY: This notice lists the minor modifications approved for a previously approved project by the Susquehanna River Basin Commission during the period set forth in DATES.

DATES: March 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists previously approved projects, receiving approval of minor modifications, described below, pursuant to 18 CFR 806.18 for the time period specified above:

Minor Modifications Issued Under 18 CFR 806.18

1. Panda Hummel Station LLC, Docket No. 20081222-4, Shamokin Dam Borough and Monroe Township, Snyder County, Pa.; approval to add Shamokin Dam Borough public water supply as an additional source of water for consumptive use; Approval Date: March 1, 2018.

2. Sugar Hollow Water Services LLC (Bowman Creek), Docket No. 20140612-1, Eaton Township, Wyoming County, Pa.; approval to changes in the authorized water uses; Approval Date: March 30, 2018.

3. Sugar Hollow Water Services LLC (Martins Creek), Docket No. 20150304-1, Hop Bottom Borough, Susquehanna County, Pa.; approval to changes in the authorized water uses; Approval Date: March 30, 2018.

4. Sugar Hollow Water Services LLC (Susquehanna River), Docket No. 20151204-1, Eaton Township, Wyoming County, Pa.; approval to changes in the authorized water uses; Approval Date: March 30, 2018.

Authority: Pub. L. 91-575, 84 Stat. 1509 et seq., 18 CFR parts 806, 807, and 808.

Dated: April 20, 2018.
Stephanie L. Richardson,
Secretary to the Commission.

[FR Doc. 2018-08643 Filed 4-24-18; 8:45 am]

BILLING CODE -P